DEPARTMENT OF ENERGY

Federal Energy Regulatory Commission

Combined Notice of Filings #1

Take notice that the Commission received the following electric corporate filings:

Docket Numbers: EC18-124-000.

Applicants: Atlantic City Electric Company, Public Service Electric and Gas Company, Delmarva Power & Light Company, Potomac Electric Power Company, PECO Energy Company, PPL Electric Utilities Corporation, UGI Utilities Inc., Baltimore Gas and Electric Company.

Description: Joint Application for Authorization Under Section 203 of the Federal Power Act, et al. of Atlantic City Electric Company, et al.

Filed Date: 7/23/2018.

Accession Number: 20180723-5216.

Comment Date: 5 p.m. ET 8/13/18.

Take notice that the Commission received the following electric rate filings:

Docket Numbers: ER13-343-008; ER13-342-012; ER16-700-001; ER16-701-001.

Applicants: CPV Maryland, LLC, CPV Shore, LLC, CPV Towantic, LLC, CPV Valley, LLC.

Description: Amendment to June 30, 2017 Market Power Update of CPV Maryland, LLC, et. al.

Filed Date: 7/23/18.

Accession Number: 20180723-5233.

Comments Due: 5 p.m. ET 8/13/18.

Docket Numbers: ER17-706-004.

Applicants: GridLiance West LLC.

Description: Compliance filing: GridLiance West 7-23-18 Compliance Filing to be effective 9/14/2017.

Filed Date: 7/23/18.

Accession Number: 20180723-5172.

Comments Due: 5 p.m. ET 8/13/18.

Docket Numbers: ER18-1169-001.

Applicants: California Independent System Operator Corporation.

Description: Compliance filing: 2018-07-23 Commitment Cost Enhancements Phase 3 Compliance to be effective 11/1/2018.

Filed Date: 7/23/18.

Accession Number: 20180723-5194.

Comments Due: 5 p.m. ET 8/13/18.

Docket Numbers: ER18-1778-000.

Applicants: CFE International LLC.

Description: Supplement to June 13, 2018 CFE International LLC tariff filing (certified translations for documents cited in the affidavit of Dr. Agustin J. Ros and Ms. Judy W. Chang).

Filed Date: 7/20/2018.

Accession Number: 20180720-5210.

Comment Date: 5 p.m. ET 8/10/2018.

Docket Numbers: ER18-1952-001.

Applicants: Gulf Power Company.

Description: Tariff Amendment: Gulf Power Amendment to Market-Based Rate Filing to be effective 12/30/2018.

Filed Date: 7/24/18.

Accession Number: 20180724-5118.

Comments Due: 5 p.m. ET 8/14/18.

Docket Numbers: ER18-1953-001.

Applicants: Gulf Power Company.

Description: Tariff Amendment: Amendment to July 3, 2018 OATT Filing to be effective 12/30/2018.

Filed Date: 7/24/18.

Accession Number: 20180724-5115.

Comments Due: 5 p.m. ET 8/14/18.

Docket Numbers: ER18-1954-001.

Applicants: Gulf Power Company.

Description: Tariff Amendment: Amendment to July 3, 2018 NITSA Filing to be effective 12/30/2018.

Filed Date: 7/24/18.

Accession Number: 20180724-5117.

Comments Due: 5 p.m. ET 8/14/18.

Docket Numbers: ER18-2052-000.

Applicants: Pacific Gas and Electric Company.

Description: § 205(d) Rate Filing: WAPA Work Performance Agreement for Pleasant Valley Pumping Plant (SA 59) to be effective 7/24/2018.

Filed Date: 7/23/18.

Accession Number: 20180723-5212.

Comments Due: 5 p.m. ET 8/13/18.

Docket Numbers: ER18-2053-000.

Applicants: PJM Interconnection, L.L.C.

Description: § 205(d) Rate Filing: Second Revised ISA No. 3917, Queue No. Y1—047/Y2-060/Z2-103/AD1-110 to be effective 6/22/2018.

Filed Date: 7/23/18.

Accession Number: 20180723-5186.

Comments Due: 5 p.m. ET 8/13/18.

Docket Numbers: ER18-2054-000.

Applicants: Midcontinent Independent System Operator, Inc.

Description: Compliance filing: 2018-07-23_Attachment X GIP and GIA revisions relative to EL18-17-000 to be effective 7/24/2018.

Filed Date: 7/23/18.

Accession Number: 20180723-5209.

Comments Due: 5 p.m. ET 8/13/18.

Docket Numbers: ER18-2055-000.

Applicants: Southwest Power Pool, Inc.

Description: Southwest Power Pool, Inc. submits tariff filing per 35.13(a)(2)(iii: 1154R14 Associated Electric Cooperative NITSA and NOA to be effective 7/1/2018.

Filed Date: 7/24/2018.

Accession Number: 20180724-5016.

Comment Date: 5 p.m. ET 8/14/2018.

Docket Numbers: ER18-2056-000.

Applicants: CenterPoint Energy Houston Electric, LLC.

Description: § 205(d) Rate Filing: TFO Tariff Interim Rate Revision to Conform with PUCT-Approved Rate—April 2018 to be effective 4/27/2018.

Filed Date: 7/24/18.

Accession Number: 20180724-5061.

Comments Due: 5 p.m. ET 8/14/18.

Docket Numbers: ER18-2057-000.

Applicants: CenterPoint Energy Houston Electric, LLC.

Description: § 205(d) Rate Filing: TFO Tariff Interim Rate Revision to Conform with PUCT-Approved Rate—July 2018 to be effective 7/11/2018.

Filed Date: 7/24/18.

Accession Number: 20180724-5063.

Comments Due: 5 p.m. ET 8/14/18.

Docket Numbers: ER18-2058-000.

Applicants: Southwest Power Pool, Inc.

Description: Southwest Power Pool, Inc. submits tariff filing per 35.13(a)(2)(iii: Revisions to Attachment AE to Change Market Settlement Timelines to be effective 5/1/2019.

Filed Date: 7/24/2018.

Accession Number: 20180724-5073.

Comment Date: 5:00 p.m. ET 8/14/18.

Docket Numbers: ER18-2059-000.

Applicants: Midcontinent Independent System Operator, Inc.

Description: Midcontinent Independent System Operator, Inc. submits tariff filing per 35.13(a)(2)(iii: 2018-07-24_SA 3138 Pioneer-DEI Interconnection Agreement to be effective 6/20/2018.

Filed Date: 7/24/2018.

Accession Number: 20180724-5096.

Comment Date: 5:00 p.m. ET 8/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2018.
Nathaniel J. Davis, Sr.,
Deputy Secretary.

[FR Doc. 2018-16218 Filed 7-27-18; 8:45 am]

BILLING CODE 6717-01-P